DEPARTMENT OF ENERGY

Federal Energy Regulatory Commission

Notice of Commission Staff Attendance

The Federal Energy Regulatory Commission (Commission) hereby gives notice that members of the Commission's staff may attend the following meeting related to the transmission planning activities of the Southern Company Services, Inc.:

Southeastern Regional Transmission Planning (SERTP) Process Interim Stakeholder Meeting on Order No. 1000

May 28, 2013, 10:00 a.m.-3:00 p.m., Local Time

The above-referenced meeting will be via Web conference.

The above-referenced meeting is open to stakeholders.

Further information may be found at: www.southeasternrtp.com.

The discussions at the meeting described above may address matters at issue in the following proceedings:

Docket No. ER13-908, Alabama Power Company et al.

Docket No. ER13-913, Ohio Valley Electric Corporation

Docket No. ER13-897, Louisville Gas and Electric Company and Kentucky Utilities Company

Docket No. ER13-1221, Mississippi Power Company

Docket No. EL05-121, PJM Interconnection, L.L.C.

Docket No. EL10-52, Central Transmission, L.L.C. v. PJM Interconnection, L.L.C.

Docket No. ER09-1256, Potomac-Appalachian Transmission Highline, L.L.C.

Docket Nos. ER10-253 and EL10-14, Primary Power, L.L.C.

Docket Nos. ER11-2814 and ER11-2815, PJM Interconnection, L.L.C. and American Transmission Systems, Inc.

Docket No. EL12-69, Primary Power LLC v. PJM Interconnection, L.L.C.

Docket No. ER12-91, PJM Interconnection, L.L.C.

Docket No. ER12-92, PJM Interconnection, L.L.C., et al.

Docket No. ER12-1178, PJM Interconnection, L.L.C.

Docket No. ER12-2399, PJM Interconnection, L.L.C.

Docket No. ER12-2708, PJM Interconnection, L.L.C.

Docket No. ER13-90, Public Service Electric and Gas Company and PJM Interconnection, L.L.C.

Docket No. ER13-195, Indicated PJM Transmission Owners

Docket No. ER13-198, PJM Interconnection, L.L.C.

Docket No. ER13-1033, Linden VFT, LLC and PJM Interconnection, L.L.C.

Docket Nos. ER13-1177, 1178 and 1179, PJM Interconnection, L.L.C. and Eastern Kentucky Power Cooperative, Inc.

Docket No. ER13-186, Midwest Independent Transmission System Operator, Inc. and the MISO Transmission Owners

Docket No. ER13-187, Midwest Independent Transmission System Operator, Inc. and the MISO Transmission Owners

Docket No. ER13-89, MidAmerican Energy Company and Midwest Independent Transmission System Operator, Inc.

Docket No. ER13-101, American Transmission Company LLC and the Midwest Independent Transmission System Operator, Inc.

Docket No. ER13-84, Cleco Power LLC

Docket No. ER13-95, Entergy Arkansas, Inc.

Docket No. ER13-80, Tampa Electric Company

Docket No. ER13-86, Florida Power Corporation

Docket No. ER13-104, Florida Power & Light Company

Docket No. NJ13-2, Orlando Utilities Commission

Docket Nos. ER13-366 and ER13-367, Southwest Power Pool, Inc.

Docket No. ER13-83, Duke Energy Carolinas LLC and Carolina Power & Light Company

Docket No. ER13-88, Alcoa Power Generating, Inc.

Docket No. ER13-107, South Carolina Electric & Gas Company

For more information, contact Valerie Martin, Office of Energy Market Regulation, Federal Energy Regulatory Commission at (202) 502-6139 or Valerie.Martin@ferc.gov.

Dated: May 22, 2013.
Kimberly D. Bose,
Secretary.

[FR Doc. 2013-12784 Filed 5-29-13; 8:45 am]

BILLING CODE 6717-01-P